DEPARTMENT OF ENERGY

Federal Energy Regulatory Commission

[Docket No. RM01-5-000]

Electronic Tariff Filings; Notice of Date for Submission of Transitional Schedules

December 1, 2009.

Take notice that the submission of proposed transitional schedules for making baseline electronic tariff filings should be made by January 22, 2010.

In Order No. 714,¹ the Commission adopted regulations requiring that tariff and tariff related filings must be made electronically. The Commission provided that the conversion to electronic tariff filings would begin April 1, 2010, with pipelines and utilities filing baseline tariffs according to a six-month staggered filing schedule worked out between staff and industry. Standard notice and comment periods will apply to these baseline filings. Once an oil or gas pipeline or electric utility has made its baseline filing, all subsequent tariff-related filings must be made electronically.

¹ Electronic Tariff Filings, Order No. 714, 73 FR 57,515 (Oct. 3, 2008), 124 FERC ¶ 61,270, FERC Stats. & Regs [Regulations Preambles] ¶ 31,276 (2008) (Sept. 19, 2008).

At the Commission staff technical conference held on November 20, 2009, staff indicated that, from its perspective, a filing schedule would be acceptable as long as the baseline filings are reasonably dispersed throughout the six month period. Having to process many baseline applications at the same time would slow Commission processing time and would work to the disadvantage of both the companies and the Commission. Customers in comments on the Notice of Proposed Rulemaking in this proceeding and at the conference expressed concern that filings be staggered reasonably so that customers would not have to review a large number of baseline filings at the same time. Interest was expressed at the conference in providing the various industries an opportunity to meet with their customer groups to develop a staggered schedule that would balance the baseline filings longitudinally and perhaps geographically.

Commission staff will honor a consensus agreement so long as the filings are generally spread over the six-month transition period. Commission staff will issue a Notice of the filing schedule after reviewing the comments received.

For more information, contact Andre Goodson, Office of the General Counsel, at 202-502-8560 or Keith Pierce, Office of Energy Market Regulation at 202 502-8525 or by sending an e-mail to ETariff@ferc.gov.

Kimberly D. Bose,
Secretary.

[FR Doc. E9-29276 Filed 12-8-09; 8:45 am]

BILLING CODE 6717-01-P